INTERNATIONAL TRADE COMMISSION

[Investigation No. 337-TA-1029]

Certain Mobile Electronic Devices; Commission Determination Not to Review an Initial Determination Terminating the Investigation Based Upon a Settlement Agreement and Withdrawal of the Complaint; Termination of the Investigation

AGENCY: U.S. International Trade Commission.

ACTION: Notice.

SUMMARY: Notice is hereby given that the U.S. International Trade Commission has determined not to review an initial determination (“ID”) (Order No. 8) of the presiding administrative law judge (“ALJ”), granting a motion to terminate the above-captioned investigation in its entirety based upon a settlement agreement between complainant Qualcomm Incorporated (“Qualcomm”) of San Diego, California and respondents Zhuhai Meizu Technology Co., Ltd. and Zhuhai Meizu Telecom Equipment Co., Ltd. (collectively, “Meizu”), both of Zhuhai, Guangdong, China; and withdrawal of the complaint as to the remaining respondents.

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on November 18, 2016, based on a complaint filed on behalf of Qualcomm. 81 FR 81807 (Nov. 18, 2016). The complaint alleges violations of section 337 of the Tariff Act of 1930, as amended, 19 U.S.C. 1337, by reason of infringement of certain claims of the following U.S. Patent Nos.: 8,095,082; 7,999,384; 7,548,407; 8,497,928; and 7,949,367. The complaint further alleges that a domestic industry exists. The Commission's notice of investigation named Meizu; Overseas Electronics, Inc. (“Overseas”) of Chicago, IL; Dest Technology Limited of Shenzhen, China; and LGYD Limited of Shenzhen, China as respondents. The Office of Unfair Import Investigations did not participate in the investigation.

On January 27, 2017, Qualcomm, Meizu, and Overseas filed an unopposed motion to terminate the investigation as to Meizu under Commission Rule 210.21(a)(2), 19 CFR 210.21(a)(2), based on a Settlement Agreement, and to terminate the investigation as to the remaining respondents under Commission Rule 210.21(a)(1), 19 CFR 210.21(a)(1), based on a withdrawal of the complaint. Order No. 8 at 1.

On February 13, 2017, the ALJ issued the subject ID granting the motion and terminating the investigation in its entirety. Id. at 3. The ALJ found that the motion complies with the Commission Rules, and that no public interest factors prohibit the termination of this investigation. Id. at 1-2; see 19 CFR 210.50(b)(2). The ALJ also found that no extraordinary circumstances prevent termination of the investigation based on withdrawal of the complaint. Id. at 3.

No petitions for review were filed. The Commission has determined not to review the ID.

The authority for the Commission's determination is contained in section 337 of the Tariff Act of 1930, as amended, 19 U.S.C. 1337, and in part 210 of the Commission's Rules of Practice and Procedure, 19 CFR part 210.

By order of the Commission.
Issued: March 15, 2017.
Lisa R. Barton,
Secretary to the Commission.

[FR Doc. 2017-05424 Filed 3-17-17; 8:45 am]

BILLING CODE 7020-02-P